DEPARTMENT OF DEFENSE

Department of the Army, Corps of Engineers

33 CFR Part 334

Department of Air Force, Maryland Air National Guard Danger Zone, Frog Mortar Creek, Middle River, Maryland

AGENCY: United States Army Corps of Engineers, DoD.

ACTION: Notice of proposed rulemaking and request for comments.

SUMMARY: The Corps of Engineers is proposing regulations to establish a Danger Zone at Glenn L. Martin State Airport in the waters of Frog Mortar Creek located in Middle River, Maryland. These regulations will enable the Maryland Air National Guard (MdANG) to ensure the safety of watermen and mariners in the vicinity of an existing munitions depot located at Glenn L. Martin State Airport adjacent to Frog Mortar Creek. The regulations are necessary to protect the watermen and mariners from potentially hazardous conditions which may exist as a result of MdANG's use of the area.

DATES: Written comments must be submitted on or before September 12, 2001.

ADDRESSES: U.S. Army Corps of Engineers, ATTN: CECW-OR, 441 G Street, NW, Washington, DC 20314-1000.

FOR FURTHER INFORMATION CONTACT: Mr. Frank Torbett, Headquarters Regulatory Branch, Washington, DC at (202) 761-4618, or Mr. Steve Elinsky, Corps of Engineers, Baltimore District, Regulatory Branch, at (410) 962-4503.

SUPPLEMENTARY INFORMATION: Pursuant to its authorities in § 7 of the Rivers and Harbors Act of 1917 (40 Stat. 266; 33 U.S.C.1) and Chapter XIX, of the Army Appropriations Act of 1919 (40 Stat. 892; 33 U.S.C.3) the Corps proposes to amend the restricted area regulations in 33 CFR part 334 by adding § 334.145 which establishes a danger zone in Frog Mortar Creek adjacent to Glenn L. Martin State Airport in Middle River, Maryland. The public currently has unrestricted access to the waters of Frog Mortar Creek in close proximity to MdANG's munitions depot. To better protect watermen and mariners, the MdANG has requested the Corps of Engineers establish a Danger Zone that will enable the MdANG to implement a zone of safety that is currently not available at the facility.

Procedural Requirements

a. Review Under Executive Order 12866

This proposed rule is issued with respect to a military function of the Defense Department and the provisions of Executive Order 12866 do not apply.

b. Review Under the Regulatory Flexibility Act

These proposed rules have been reviewed under the Regulatory Flexibility Act (Public Law 96-354) which requires the preparation of a regulatory flexibility analysis for any regulation that will have a significant economic impact on a substantial number of small entities (i.e., small businesses and small Governments). The Corps expects that the economic impact of the establishment of this danger zone would have practically no impact on the public, no anticipated navigational hazard or interference with existing waterway traffic and accordingly, certifies that this proposal if adopted, will have no significant economic impact on small entities.

c. Review Under the National Environmental Policy Act

An environmental assessment has been prepared for this action. We have concluded, based on the minor nature of the proposed additional danger zone regulations, that this action, if adopted, will not have a significant impact to the quality of the human environment, and preparation of an environmental impact statement is not required. The environmental assessment may be reviewed at the District office listed at the end of FOR FURTHER INFORMATION CONTACT, see paragraph 4 of this notice.

d. Unfunded Mandates Act

This proposed rule does not impose an enforceable duty among the private sector and, therefore, is not a Federal private sector mandate and is not subject to the requirements of Section 202 or 205 of the Unfunded Mandates Act. We have also found under Section 203 of the Act, that small Governments will not be significantly and uniquely affected by this rulemaking.

List of Subjects in 33 CFR Part 334

Danger Zones, Marine Safety, Restricted Areas, Waterways.

For the reasons set out in the preamble, the Corps proposes to amend 33 CFR 334, as follows:

PART 334—DANGER ZONE AND RESTRICTED AREA REGULATIONS

1. The authority citation for 33 CFR 334 continues to read as follows:

Authority: 40 Stat. 266 (30 U.S.C. 1) and 40 Stat. 892 (33 U.S.C. 3).

2. Section 334.145 is added to read as follows:

§ 334.145 Frog Mortar Creek, west side, adjacent to Maryland Air National Guard munitions depot located at Glenn L. Martin State Airport, Middle River, Maryland; Danger Zone.

(a) The area. (1) The waters within an area beginning at a point on the shore at latitude 39°19′35.8″ N, longitude 76°24′28.7″ W; thence northeasterly to latitude 39°19′36.8″ N, longitude 76°24′26″ W; thence northwesterly to latitude 39°19′40.7″ N, longitude 76°24′29.6″ W; thence southwesterly to latitude 39°19′40.2″ N, longitude 76°24′31.5″ W; thence southeasterly along the shoreline to the point of beginning.

(b) The regulation. (1) All vessels entering the danger zone shall proceed across the area by the most direct route and without unnecessary delay.

(2) No vessel or craft of any size shall lie-to or anchor in the danger zone at any time other than a vessel operated by or for the U.S. Coast Guard, local, State, or Federal law enforcement agencies.

(c) Enforcement. The regulation in this section shall be enforced by the Commanding Officer, Maryland Air National Guard, and/or persons or agencies as he/she may designate.

Dated: July 30, 2001.
Charles M. Hess,
Chief, Operations Division Directorate of Civil Works.

[FR Doc. 01-20232 Filed 8-10-01; 8:45 am]

BILLING CODE 3710-92-P